DEPARTMENT OF HEALTH AND HUMAN SERVICES

Centers for Medicare & Medicaid Services

42 CFR Parts 409, 410, 418, 440, 484, 485 and 488

[CMS-3819-N]

Medicare and Medicaid Programs; Conditions of Participation for Home Health Agencies; Extension of Comment Period

AGENCY: Centers for Medicare & Medicaid Services (CMS), HHS.

ACTION: Notice of extension of comment period.

SUMMARY: This notice extends the comment period for the October 9, 2014 proposed rule entitled “Conditions of Participation for Home Health Agencies” (79 FR 61164). The comment period for the proposed rule, which would have ended on December 8, 2014, is extended for 30 days.

DATES: The comment period is extended to 5 p.m. Eastern Standard Time on January 7, 2015.

ADDRESSES: In commenting, please refer to file code CMS-3819-P. Because of staff and resource limitations, we cannot accept comments by facsimile (FAX) transmission.

You may submit comments in one of four ways (please choose only one of the ways listed):

1. Electronically. You may submit electronic comments on this regulation to http://www.regulations.gov. Follow the “Submit a comment” instructions.

2. By regular mail. You may mail written comments to the following address ONLY: Centers for Medicare & Medicaid Services, Department of Health and Human Services, Attention: CMS-3819-P, P.O. Box 8016, Baltimore, MD 21244-8016.

Please allow sufficient time for mailed comments to be received before the close of the comment period.

3. By express or overnight mail. You may send written comments to the following address only: Centers for Medicare & Medicaid Services, Department of Health and Human Services, Attention: CMS-3819-P, Mail Stop C4-26-05, 7500 Security Boulevard, Baltimore, MD 21244-1850.

4. By hand or courier. Alternatively, you may deliver (by hand or courier) your written comments ONLY to the following addresses prior to the close of the comment period:

a. For delivery in Washington, DC—Centers for Medicare & Medicaid Services, Department of Health and Human Services, Room 445-G, Hubert H. Humphrey Building, 200 Independence Avenue SW., Washington, DC 20201. (Because access to the interior of the Hubert H. Humphrey Building is not readily available to persons without Federal government identification, commenters are encouraged to leave their comments in the CMS drop slots located in the main lobby of the building. A stamp-in clock is available for persons wishing to retain a proof of filing by stamping in and retaining an extra copy of the comments being filed.)

b. For delivery in Baltimore, MD—Centers for Medicare & Medicaid Services, Department of Health and Human Services, 7500 Security Boulevard, Baltimore, MD 21244-1850.

If you intend to deliver your comments to the Baltimore address, call telephone number (410) 786-9994 in advance to schedule your arrival with one of our staff members.

Comments erroneously mailed to the addresses indicated as appropriate for hand or courier delivery may be delayed and received after the comment period.

Inspection of Public Comments: All comments received before the close of the comment period are available for viewing by the public, including any personally identifiable or confidential business information that is included in a comment. We post all comments received before the close of the comment period on the following Web site as soon as possible after they have been received: http://www.regulations.gov. Follow the search instructions on that Web site to view public comments.

Comments received timely will also be available for public inspection as they are received, generally beginning approximately 3 weeks after publication of a document, at the headquarters of the Centers for Medicare & Medicaid Services, 7500 Security Boulevard, Baltimore, Maryland 21244, Monday through Friday of each week from 8:30 a.m. to 4 p.m. To schedule an appointment to view public comments, phone 1-800-743-3951.

FOR FURTHER INFORMATION CONTACT: Danielle Shearer (410) 786-6617. Jacqueline Leach (410) 786-4282. Maria Hammel (410) 786-1775.

SUPPLEMENTARY INFORMATION: On October 9, 2014, we published a proposed rule in the Federal Register (79 FR 61164) entitled, “Conditions of Participation for Home Health Agencies” that would revise the health and safety requirements that home health agencies (HHAs) must meet in order to participate in the Medicare and Medicaid programs. Specifically, the proposed requirements would focus on the care delivered to patients by home health agencies, reflect an interdisciplinary view of patient care, allow HHAs greater flexibility in meeting quality care standards, and eliminate unnecessary procedural requirements. In addition, we proposed a set of fundamental requirements for HHA services that would encompass patient rights, comprehensive patient assessment, and patient care planning and coordination by an interdisciplinary team. Overarching these requirements would be a quality assessment and performance improvement program that would build on the philosophy that a provider's own quality management system is key to improved patient care performance. The objective would be to achieve a balanced regulatory approach by ensuring that a HHA furnished health care that met essential health and quality standards, while ensuring that it monitored and improved its own performance. These changes are an integral part of our overall effort to achieve broad-based, measurable improvements in the quality of care furnished through the Medicare and Medicaid programs, while at the same time eliminating unnecessary procedural burdens on providers.

We have received inquiries from state-based and national industry organizations regarding the 60 day turn-around time to submit comments regarding this proposed rule. The organizations stated that they needed additional time to respond to the rule due to the complex nature of the proposed revisions. Because of the scope of the proposed rule, and since we have specifically requested the public's comments on various aspect of the rule in an attempt to benefit from the vast experiences of the HHA provider and patient communities, we believe that it is important to allow ample time for all sections of the public to comment on this proposed rule. Therefore, we have decided to extend the comment period for an additional 30 days. This document announces the extension of the public comment period to January 7, 2015.

Dated: November 24, 2014.
Marilyn Tavenner,
Administrator, Centers for Medicare & Medicaid Services.

[FR Doc. 2014-28266 Filed 11-28-14; 8:45 am]

BILLING CODE 4120-01-P